DEPARTMENT OF THE INTERIOR

Fish and Wildlife Service

Notice of Availability of Final Comprehensive Conservation Plan (CCP) and Finding of No Significant Impact for Hagerman National Wildlife Refuge (Refuge), Sherman, TX

AGENCY: U.S. Fish and Wildlife Service, Department of the Interior.

ACTION: Notice of availability.

SUMMARY: The U.S. Fish and Wildlife Service (Service) announces that the Final CCP is available for the Hagerman National Wildlife Refuge (Refuge). This CCP is prepared pursuant to the National Wildlife Refuge System Administration Act of 1966, as amended by the National Wildlife Refuge System Improvement Act of 1997, and the National Environmental Policy Act of 1969, and describes how the Service intends to manage this Refuge over the next 15 years.

ADDRESSES: Copies of the CCP are available on compact diskette or in hard copy, and can be obtained by writing: U.S. Fish and Wildlife Service, Attn: Yvette Truitt-Ortiz, Division of Planning, P.O. Box 1306, Albuquerque, New Mexico 87103.

FOR FURTHER INFORMATION CONTACT: Johnny Beall, Refuge Manager, Hagerman National Wildlife Refuge, 6465 Refuge Road, Sherman, Texas 75092; 903-786-2826, or Yvette Truitt-Ortiz, Natural Resource Planner, U.S. Fish and Wildlife Service, Division of Planning, P.O. Box 1306, Albuquerque, New Mexico 87103; 505-248-6452; or direct e-mail to yvette_truittortiz@fws.gov.

SUPPLEMENTARY INFORMATION: A CCP is required by the National Wildlife Refuge System Administration Act of 1966, as amended by the National Wildlife Refuge System Improvement Act of 1997 (16 U.S.C. 668dd-668ee et seq.). The purpose in developing CCPs is to provide refuge managers with a 15-year strategy for achieving refuge purposes and contributing toward the mission of the National Wildlife Refuge System, consistent with sound principles of fish and wildlife science, conservation, legal mandates, and Service policies. In addition to outlining broad management direction on conserving wildlife and their habitats, the CCPs identify wildlife-dependent recreational opportunities available to the public, including opportunities for hunting, fishing, wildlife observation and photography, and environmental education and interpretation. These CCPs will be reviewed and updated at least every 15 years in accordance with the National Wildlife Refuge System Administration Act of 1966, as amended by the National Wildlife Refuge System Improvement Act of 1997 (16 U.S.C. 668dd et seq.), and the National Environmental Policy Act of 1969 (42 U.S.C. 4321-4370d).

Dated: March 31, 2006.
Geoffrey L. Haskett,
Acting Regional Director, U.S. Fish and Wildlife Service, Albuquerque, New Mexico.

[FR Doc. E6-8003 Filed 5-23-06; 8:45 am]

BILLING CODE 4310-55-P